DEPARTMENT OF TRANSPORTATION

Federal Highway Administration

Environmental Impact Statement; Scott County, MN

AGENCY: Federal Highway Administration (HFWA), DOT.

ACTION: Notice of intent.

SUMMARY: The FHWA is issuing this notice to advise the public that an environmental impact statement (EIS) will be prepared for a proposed extension of County State Aid Highway (CSAH) 21 from CSAH 42 on the south to CSAH 18 on the north in Scott County, Minnesota.

FOR FURTHER INFORMATION CONTACT: Cheryl Martin, Federal Highway Administration, Galtier Plaza, 380 Jackson Street, Suite 500, St. Paul, Minnesota 55101, Telephone (651) 291-6120; or Bradley Larson, Public Works Director/County Highway Engineer, Scott County Public Works Division, Highway Department, 600 Country Trail East, Jordan, Minnesota 55352-9339, Telephone (952) 496-8346.

SUPPLEMENTARY INFORMATION: The FHWA, in cooperation with the Scott County Highway Department will prepare an EIS on a proposal to extend CSAH 21 as a four-lane expressway, from CSAH 42 on the south to CSAH 18 on the north, a distance of approximately 2.5 miles.

A scoping process will be used to identify the alternatives and issues to be addressed in the EIS. The EIS will evaluate the social, economic, transportation and environmental impacts of alternatives. The “Scott County CSAH 21 Scoping Document/Draft Scoping Decision Document” will be published in the Spring 2003. A press release will be published to inform the public of the document's availability. Copies of the scoping document will be distributed to agencies, interested persons and libraries for review to aid in identifying issues and analyses to be contained in the EIS.

A thirty-day comment period for review of the document will be provided to afford an opportunity for all interested persons, agencies and groups to comment on the proposed action. A public scoping meeting will also be held during the comment period. Public notice will be given for the time and place of the meeting.

A Draft EIS, which will be prepared based on the outcome of the scoping process, will be available for agency and public review and comment. In addition, a public hearing will be held following completion of the Draft EIS. Public Notice will be given for the time and place of the public hearing on the Draft EIS.

Coordination has been initiated and will continue with appropriate Federal, State and local agencies and private organizations and citizens who have previously expressed or are known to have an interest in the proposed action. To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)
Issued on: August 19, 2002.
Stanley M. Graczyk,
Project Development Engineer, Federal Highway Administration, St. Paul, Minnesota.

[FR Doc. 02-21708 Filed 8-26-02; 8:45 am]

BILLING CODE 4910-22-M